SECURITIES AND EXCHANGE COMMISSION

[File No. 500-1]

City Capital Corporation; Order of Suspension of Trading

April 13, 2012.

It appears to the Securities and Exchange Commission that there is a lack of current and accurate information concerning the securities of City Capital Corporation (“City Capital”). Questions have also arisen regarding the accuracy and adequacy of publicly available information about City Capital because it has not filed any periodic reports since its delinquent 2009 Form 10-K, filed June 15, 2010.

The Commission is of the opinion that the public interest and the protection of investors require a suspension of trading in the securities of the above-listed company.

Therefore, it is ordered, pursuant to Section 12(k) of the Securities Exchange Act of 1934, that trading in the securities of the above-listed company is suspended for the period from 9:30 a.m. EDT on April 13, 2012 and terminating at 11:59 p.m. EDT on April 26, 2012.

By the Commission.
Jill M. Peterson,
Assistant Secretary.

[FR Doc. 2012-9302 Filed 4-13-12; 11:15 am]

BILLING CODE 8011-01-P